DEPARTMENT OF TRANSPORTATION

Federal Highway Administration

Environmental Impact Statement; Highway 75, Timmerman Junction to Ketchum, Blaine County, ID

AGENCY: Federal Highway Administration (FHWA), DOT.

ACTION: Notice of intent.

SUMMARY: The FHWA is issuing this notice to advise the public that an environmental impact statement will be prepared for proposed transportation improvements within the Highway 75 corridor from Timmerman Junction to Ketchum, Idaho.

FOR FURTHER INFORMATION CONTACT: Ms. Mary Gray, Environmental /Right-of-Way Program Manager, Federal Highway Administration, 3050 Lakeharbor Lane, Suite 126, Boise, ID 83702, (208) 334-1843; or Mr. Charles Carnohan, Senior Environmental Planner, Idaho Department of Transportation, P.O. Box 2-A, Shoshone, ID 83205-4700, (208) 886-7823.

SUPPLEMENTARY INFORMATION:

Electronic Access

An electronic copy of this document may be downloaded by using a computer, modem and suitable communications software from the Government Printing Office's Electronic Bulletin Board Service at (202)512-1661. Internet users may reach the Office of the Federal Register's home page at: http://www.nara.gov/fedreg and the Government Printing Office's web site at: http://www.access.gpo.gov/nara.

Background

The FHWA, in cooperation with the Idaho Transportation Department, will prepare an environmental impact statement (EIS) on proposed transportation improvements to the Highway 75 corridor from the intersection with Highway 20 (Timmerman Junction) north to Ketchum, Idaho. The EIS process will include identification of issues, development of the project's purpose and need, and identification and evaluation of a range of multi modal transportation alternatives as well as project mitigation measures.

A series of public scoping meetings will be held in Hailey and Ketchum Idaho to ensure that the full range of issues related to this proposed action are identified. Notices of specific meeting times and places will be placed in local newspapers. In addition, public meetings and consultation with Federal, State and local agencies will also be held. Comments and suggestions are invited from all interested parties. Comments or questions can be directed to the contacts listed in the caption FOR FURTHER INFORMATION CONTACT.

Authority: 23 U.S.C. 315; 23 CFR 1.48.

Issued on: September 28, 2000.
Stephen A. Moreno,
Division Administrator.

[FR Doc. 00-25435 Filed 10-3-00; 8:45 am]

BILLING CODE 4910-22-P